DEPARTMENT OF HEALTH AND HUMAN SERVICES

Centers for Disease Control and Prevention

Management of Acute and Chronic Pain: Opportunity for Stakeholder Engagement

AGENCY: Centers for Disease Control and Prevention (CDC), Department of Health and Human Services (HHS).

ACTION: Notice.

SUMMARY: The Centers for Disease Control and Prevention (CDC), located within the Department of Health and Human Services (HHS), announces an opportunity to hear stakeholders' perspectives on and experiences with pain and pain management, including but not limited to the benefits and harms of opioid use. These stakeholders include patients with acute or chronic pain, patients' family members and/or caregivers, and healthcare providers who care for patients with pain or conditions that can complicate pain management (e.g., opioid use disorder or overdose). As part of this effort, CDC will be holding approximately 100 individual conversations with stakeholders over the phone or through an internet-enabled virtual platform. CDC is asking stakeholders interested in participating to contact CDC as outlined in the SUPPLEMENTARY INFORMATION section. These conversations are intended to supplement the efforts of CDC's prior FRN (85 FR 21441) which solicited written public comment on the same topical areas between April and June 2020.

DATES: Persons interested in participating should contact CDC as described below no later than 5:00 p.m. EDT August 21, 2020.

FOR FURTHER INFORMATION CONTACT: Shannon Lee, Centers for Disease Control and Prevention, 1600 Clifton Road NE, Mailstop S106-9, Atlanta, Georgia, 30329, Telephone: 404-498-3290, email: InjuryCenterEngage@cdc.gov

SUPPLEMENTARY INFORMATION:

Purpose

Input gathered through these conversations will help inform CDC's understanding of stakeholders' values and preferences related to pain and pain management and will complement CDC's ongoing work to update or expand the CDC Guideline for Prescribing Opioids for Chronic Pain, published in 2016 (Available at https://www.cdc.gov/mmwr/volumes/65/rr/rr6501e1er.htm). More information about CDC's process for updating the Guideline and the establishment of a Federal advisory committee workgroup to provide expert input and observations on the Guideline update is available at https://www.cdc.gov/injury/bsc/opioid-workgroup-2019.html. CDC will request public comment on the updated draft Guideline through a notice in the Federal Register prior to final publication.

Engagement Structure

During these conversations, CDC will talk with individual participants between 45-60 minutes on the phone or an internet-enabled virtual platform to listen to personal perspectives and experience related to the themes described below in the THEMES section.

Participation

Persons interested in participating in these conversations should email the following information to InjuryCenterEngage@cdc.gov:

• Full name

• Whether you would be participating primarily as a healthcare provider, patient, or family member and/or caregiver

○ If you are a healthcare provider, please describe whether you care for patients with chronic pain, acute pain, and/or conditions that can complicate pain management (e.g., opioid use disorder or overdose)

○ If you are a patient, please identify if you mostly experience acute or chronic pain and if you feel opioid pain medications have mostly helped you, mostly harmed you, neither, or an even mix of both

○ If you are a family member and/or caregiver, please identify if the person you care for experiences acute or chronic pain and if you feel opioid pain medications have mostly helped or mostly harmed them, neither, or an even mix of both

Persons having trouble submitting by email or unable to submit by email should call 404-498-3290.

See PARTICIPANT SELECTION PROCEDURE below for information on how CDC will select participants from among those who express interest and how participants will be notified about their participation status.

Prior to analyzing the input gathered through these conversations, will remove all personally identifiable information, which is any information that can be used to distinguish or trace an individual's identity, such as name, date and place of birth.

Themes

During the conversations, CDC will invite input specifically on topics focused on using or prescribing opioid pain medications, non-opioid medications, or non-pharmacological treatments (e.g., exercise therapy or cognitive behavioral therapy). These topics are:

• Experiences managing pain, which might include benefits, risks, and/or harms of the pain management options listed above.

• Experiences choosing among the pain management options listed above, including considering factors such as each option's accessibility, cost, benefits, and/or risks.

• Experiences getting information needed to make pain management decisions.

Participant Selection Procedure

From people who express interest by the deadline, CDC will identify persons at random from within the targeted populations (i.e. patients with acute or chronic pain, patients' family members and/or caregivers, and healthcare providers who care for patients with pain or conditions that can complicate pain management (e.g., opioid use disorder or overdose)). CDC will seek to balance representation on factors including pain type (acute or chronic); experience (mostly benefitted, mostly harmed, neither, both); and role (provider, patient, family member and/or caregiver). Identified participants will receive an invitation to participate, as well as possible scheduling reminders, by email or phone calls.

Further Communications

Persons who wish to receive information related to CDC's ongoing work specific to drug overdose prevention (including the ongoing response to the opioid overdose epidemic) as well as other updates (e.g., pertaining to resources and tools) may sign up at: www.cdc.gov/emailupdates and select topics of interest. Available offerings include:

• Subscription Topics: Injury, Violence & Safety

• Subtopic: Drug Overdose News

Resources

CDC's National Center for Injury Prevention and Control is committed to suicide prevention. If you are in immediate danger, please call 9-1-1 or go to your nearest emergency department. If you or someone you care for needs help, you may contact the National Suicide Prevention Lifeline (https://suicidepreventionlifeline.org) or your local crisis line. The National Disaster Distress Helpline is available to anyone experiencing emotional distress related to COVID-19. Call 1-800-985-5990 or text TalkWithUs to 66746 to speak to a caring counselor. For additional help, please see the many helpful resources at https://suicidepreventionlifeline.org/current-events/supporting-your-emotional-well-being-during-the-covid-19-outbreak/

Applicability of the Paperwork Reduction Act

The data are being collected under OMB Control Number 0920-1050, Generic Clearance for the Collection of Qualitative Feedback on Agency Service Delivery, Expiration date: May 31, 2022.

Dated: July 17, 2020.
Sandra Cashman,
Executive Secretary, Centers for Disease Control and Prevention.

[FR Doc. 2020-15855 Filed 7-21-20; 8:45 am]

BILLING CODE 4163-18-P